FEDERAL ELECTION COMMISSION

11 CFR Parts 100, 104, and 113

[Notice 2002-31]

Brokerage Loans and Lines of Credit

AGENCY: Federal Election Commission.

ACTION: Final rule; announcement of effective date.

SUMMARY: On June 4, 2002, the Commission published the text of regulations regarding brokerage loans and lines of credit. The Commission announces the effective dates of the rules.

EFFECTIVE DATE: The final rules for 11 CFR 104.3, 104.8, 104.9, 104.14, and 113.1 are effective December 31, 2002.

FOR FURTHER INFORMATION CONTACT: Ms. Rosemary C. Smith, Acting Associate General Counsel, or Ms. Mai T. Dinh, Acting Assistant General Counsel, 999 E Street, NW., Washington, DC 20463, (202) 694-1650 or (800) 424-9530.

SUPPLEMENTARY INFORMATION: The Commission is announcing the effective date of revisions to the regulations at 11 CFR 104.3, 104.8, 104.9, 104.14, and 113.1 regarding brokerage loans and lines of credit. See Explanation and Justification for Brokerage Loans and Lines of Credit, 67 FR 38353 (June 4, 2002). These rules implement Public Law 106-346 (Department of Transportation and Related Agencies Appropriations Act, 2001, 114 Stat. 1356 (2000)), which amended the Federal Election Campaign Act of 1971, 2 U.S.C. 431 et seq., (“the Act” or “FECA”). Under the new regulations, candidates may receive, and repay, advances from their brokerage accounts, credit cards, home equity lines of credit, or other lines of credit without such advances constituting “contributions” or “expenditures” under the Act. In addition, the new regulations require reporting of the receipt and repayment of such advances.

Under the Administrative Procedures Act, 5 U.S.C. 553(d), and the Congressional Review of Agency Rulemaking Act, 5 U.S.C. 801(a)(1), agencies must submit final rules to the Speaker of the House of Representatives and the President of the Senate and publish them in the Federal Register at least 30 calendar days before they take effect. The final rules on Brokerage Loans and Lines of Credit were transmitted to Congress on May 28, 2002. Thirty legislative days expired in the Senate on July 19, 2002, and in the House of Representatives on July 26, 2002.

In addition, please note, that as part of the rulemakings implementing the Bipartisan Campaign Reform Act of 2002, Pub. L. 107-155, 116 Stat. 81 (March 27, 2002), the Commission reorganized 11 CFR 100.7 and 100.8. The final rules regarding brokerage loans and lines of credit that amended 11 CFR 100.7(b)(11) and (22), and 100.8(b)(12) and (24) were incorporated into the reorganization at new 11 CFR 100.82 and 100.83, and 100.142 and 100.143, respectively. See Distribution Table in the final rules for Reorganization of Regulations on “Contribution” and “Expenditure,” 67 FR 50582 (Aug. 5, 2002). Because the final rules for Reorganization of Regulations on “Contribution” and “Expenditure” became effective on November 6, 2002, the revisions to 11 CFR 100.7(b) and 100.8(b) have been superseded. Therefore, this notice does not establish an effective date for the revisions to these sections.

The Commission also revised FEC Form C-1, C-P, and C-P-1 and their respective instructions. The revised forms and instructions are also effective as of December 31, 2002.

Dated: December 23, 2002.
Ellen L. Weintraub,
Vice-Chair, Federal Election Commission.

[FR Doc. 02-32983 Filed 12-30-02; 8:45 am]

BILLING CODE 6715-01-P